DEPARTMENT OF COMMERCE

National Oceanic and Atmospheric Administration

Proposed Information Collection; Comment Request; National Estuarine Research Reserve System Science Collaborative Evaluation

AGENCY: National Oceanic and Atmospheric Administration (NOAA), Commerce.

ACTION: Notice.

SUMMARY: The Department of Commerce, as part of its continuing effort to reduce paperwork and respondent burden, invites the general public and other Federal agencies to take this opportunity to comment on proposed information collection, as required by the Paperwork Reduction Act of 1995.

DATES: Written comments must be submitted on or before December 31, 2012 December 28, 2012.

ADDRESSES: Direct all written comments to Sarah Brabson, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dwight Trueblood, (603) 862-3580 or Dwight.Trueblood@noaa.gov.

SUPPLEMENTARY INFORMATION:

I. Abstract

The National Estuarine Research Reserve System (NERRS) Science Collaborative was created in 2009 to put Reserve-based science to work for coastal communities coping with the impacts of land use change, pollution, and habitat degradation in the context of a changing climate. The program operates on the belief that for science to be applied to solve coastal management problems, the people who need to use the science must be involved in its generation.

The projects funded by the NERRS Science Collaborative are designed to bring the intended users of the science into the research process so that their perspectives can inform problem definition, research design and implementation, and ultimately, application of the project results. This is what is meant by “collaboration,” and it is the program's goal to use this process to ensure that the good science happening in and around the Reserves gets put to good use.

To help evaluate the efficacy of the NERRS Science Collaborative, NOAA is conducting a survey of the NERRS staff located in the 28 Reserves around the country to solicit their perspective about the program and how it has been implemented.

II. Method of Collection

Respondents will be surveyed electronically and the submission of results will be online. If requested, a paper copy of the survey will be provided to the survey respondents.

III. Data

OMB Control Number: None.

Form Number: None.

Type of Review: Regular submission (request for a new information collection).

Affected Public: Non-profit institutions; State, local, or tribal government.

Estimated Number of Respondents: 140.

Estimated Time per Response: 20 minutes.

Estimated Total Annual Burden Hours: 47.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 23, 2012.
Gwellnar Banks,
Management Analyst, Office of the Chief Information Officer.

[FR Doc. 2012-26465 Filed 10-26-12; 8:45 am]

BILLING CODE 3510-08-P